ENVIRONMENTAL PROTECTION AGENCY

40 CFR Part 60

[EPA-HQ-OAR-2010-0960; FRL-10000-43-OAR]

Call for Information: Information Related to the Development of Emission Estimating Methodologies for Animal Feeding Operations

AGENCY: Environmental Protection Agency (EPA).

ACTION: Call for information.

SUMMARY: The U.S. Environmental Protection Agency (EPA) is soliciting quality-assured emissions and process data, and calculation models and methodologies that are relevant to developing emission estimating methodologies (EEMs) for emissions of volatile organic compounds (VOC) from animal feeding operations (AFOs). The EPA may use the data to supplement the emissions and process data collected under the National Air Emission Monitoring Study (NAEMS) for AFOs.

DATES: Information must be received on or before December 2, 2019.

ADDRESSES: You may send comments, identified by Docket ID No. EPA-HQ-OAR-2010-0960, by any of the following methods:

• Federal eRulemaking Portal: https://www.regulations.gov/ (our preferred method). Follow the online instructions for submitting comments.

• Email: a-and-r-docket@epa.gov. Include Docket ID No. EPA-HQ-OAR-2010-0960 in the subject line of the message.

• Fax: (202) 566-9744. Attention Docket ID No. EPA-HQ-OAR-2010-0960.

• Mail: U.S. Environmental Protection Agency, EPA Docket Center, Docket ID No. EPA-HQ-OAR-2010-0960, Mail Code 28221T, 1200 Pennsylvania Avenue NW, Washington, DC 20460.

• Hand/Courier Delivery: EPA Docket Center, WJC West Building, Room 3334, 1301 Constitution Avenue NW, Washington, DC 20004. The Docket Center's hours of operation are 8:30 a.m.-4:30 p.m., Monday-Friday (except federal holidays).

Instructions: All submissions received must include the Docket ID No. for this rulemaking. Comments received may be posted without change to https://www.regulations.gov/, including any personal information provided. For detailed instructions on sending comments and additional information on the rulemaking process, see the SUPPLEMENTARY INFORMATION section of this document.

FOR FURTHER INFORMATION CONTACT: For questions about this Call for Information, contact Mr. William Schrock, Sector Policies and Programs Division (E143-03), Office of Air Quality Planning and Standards, U.S. Environmental Protection Agency, Research Triangle Park, North Carolina 27711; telephone number: (919) 541-5032; fax number: (919) 541-0516; and email address: schrock.bill@epa.gov.

SUPPLEMENTARY INFORMATION:

Docket. The EPA has established a docket for this rulemaking under Docket ID No. EPA-HQ-OAR-2010-0960. All documents in the docket are listed in Regulations.gov. Although listed, some information is not publicly available, e.g., Confidential Business Information (CBI) or other information whose disclosure is restricted by statute. Certain other material, such as copyrighted material, is not placed on the internet and will be publicly available only in hard copy. Publicly available docket materials are available either electronically in Regulations.gov or in hard copy at the EPA Docket Center, Room 3334, WJC West Building, 1301 Constitution Avenue NW, Washington, DC. The Public Reading Room is open from 8:30 a.m. to 4:30 p.m., Monday through Friday, excluding legal holidays. The telephone number for the Public Reading Room is (202) 566-1744, and the telephone number for the EPA Docket Center is (202) 566-1742.

Instructions. Direct your comments to Docket ID No. EPA-HQ-OAR-2010-0960. The EPA's policy is that all comments received will be included in the public docket without change and may be made available online at https://www.regulations.gov/, including any personal information provided, unless the comment includes information claimed to be CBI or other information whose disclosure is restricted by statute. Do not submit information that you consider to be CBI or otherwise protected through https://www.regulations.gov/ or email. This type of information should be submitted by mail as discussed below.

The EPA may publish any comment received to its public docket. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and be free of any defects or viruses. For additional information about the EPA's public docket, visit the EPA Docket Center homepage at https://www.epa.gov/dockets.

Submitting CBI. Do not submit information containing CBI to the EPA through https://www.regulations.gov/ or email. Clearly mark the part or all of the information that you claim to be CBI. For CBI information on any digital storage media that you mail to the EPA, mark the outside of the digital storage media as CBI and then identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI. Information not marked as CBI will be included in the public docket and the EPA's electronic public docket without prior notice. Information marked as CBI will not be disclosed except in accordance with procedures set forth in 40 Code of Federal Regulations (CFR) part 2. Send or deliver information identified as CBI only to the following address: OAQPS Document Control Officer (C404-02), OAQPS, U.S. Environmental Protection Agency, Research Triangle Park, North Carolina 27711, Attention Docket ID No. EPA-HQ-OAR-2010-0960.

Call for Information acronyms and abbreviations. We use multiple acronyms and terms in this Call for Information. While this list may not be exhaustive, to ease the reading of this Call for Information and for reference purposes, the EPA defines the following terms and acronyms here:

AFOs animal feeding operations

CBI Confidential Business Information

EEMs emission estimating methodologies

NAEMS National Air Emission Monitoring Study

SAB Science Advisory Board

VOC volatile organic compounds

I. General Information

A. What is the purpose of this action?

In 2005, the EPA offered AFOs an opportunity to participate in a voluntary consent agreement (70 FR 4958, January 31, 2005) referred to as the Air Compliance Agreement. Under the Air Compliance Agreement, participating AFOs were responsible for, among other things, the funding for NAEMS—a 2-year, nationwide industry-run emissions monitoring study of the broiler, egg-layer, swine, and dairy industries. Monitoring under NAEMS began in the summer of 2007 and it occurred at 25 monitoring sites located in 10 states. The study collected process and emissions data for ammonia, hydrogen sulfide, particle pollution, and VOC from a representative sample of animal housing structures and manure storage and treatment units across the country.

The EPA plans to use these data to develop EEMs for AFOs, which will help AFOs determine and comply with any applicable regulatory responsibilities under the Clean Air Act. Additional information regarding NAEMS can be found at: https://www.epa.gov/afos-air/national-air-emissions-monitoring-study.

In the January 2005 Federal Register document, the EPA committed to using data generated from NAEMS and all other available, relevant data to develop EEMs. On January 19, 2011, the EPA published a call for information to obtain emissions and process data for animal confinement and manure storage and treatment processes at beef, broiler, dairy, egg-layer, swine, and turkey AFOs (76 FR 3060). Using the NAEMS data and the data obtained through the 2011 call for information, the EPA developed draft EEMs for broiler confinement operations and for open lagoons and basins at swine and dairy operations. In 2013, the EPA requested that the Science Advisory Board (SAB) conduct a review of these draft EEMs and provide feedback regarding the development of the methodologies. As noted by the SAB in their March 19, 2013, review summary, and reaffirmed by recent EPA data reviews, peer-reviewed data regarding VOC emissions from AFOs are limited.¹ Through the Call for Information in this document, the EPA is requesting that interested parties submit VOC emissions and process data available since 2011 that are relevant to the EPA's effort to develop EEMs for animal confinement and manure storage and treatment processes at broiler, dairy, egg-layer, and swine AFOs, particularly for open sources at dairy and swine operations (e.g., lagoons and basins).

¹ See https://www.epa.gov/afos-air/national-air-emissions-monitoring-study#naems-sab.

B. What specific information is the EPA seeking?

The EPA is requesting data for VOC emissions from animal confinement and manure storage and treatment processes at broiler, egg-layer, swine, and dairy AFOs and related process information. Consistent with the Air Compliance Agreement, the EPA is focusing in the near term on developing EEMs for AFOs using statistical models. However, we acknowledge the recommendation that the EPA develop a process-based modeling approach that incorporates “mass balance” constraints to determine emissions from AFOs, made by the National Academy of Sciences in its December 2002 final report titled Air Emissions from Animal Feeding Operations: Current Knowledge, Future Needs. In their 2013 review, the SAB also recommended that the EPA develop process-based models for estimating emissions from AFOs. As noted in the EPA's 2013 response to the SAB review, we will carefully consider its recommendations and we will review all of the information available to us in developing the AFO EEMs. To ensure compatibility with the NAEMS data, the emissions and related process data provided to the EPA should be accompanied, if possible, by documentation that contains detailed descriptions of the following parameters, as applicable.

1. General information:

• Description of AFO process measured (e.g., animal confinement structure; manure storage and treatment unit; land application site).

• Location of AFO process measured (e.g., physical address, latitude/longitude coordinates of facility).

• Beginning and ending dates of the monitoring period.

2. Monitoring data:

• Quality assurance and quality control plan.

• Site monitoring plan.

• Test methods, instrumentation, and standard operating procedures used to collect emissions and process data measurements.

• Results of audits conducted on instruments and procedures.

• Field notes and associated documentation collected during the monitoring.

• Emissions data (unanalyzed or analyzed) and associated process data.

• Meteorological data, including average ambient temperature, relative humidity, pressure, wind speed, wind direction, and insolation (solar radiation) for each day that the study was conducted.

• Production data (e.g., number of eggs produced per day or quantity of milk produced per day).

• Calculations and assumptions used to convert concentration data (e.g., parts per million by volume) into mass emissions (e.g., pounds per hour).

3. Animal confinement structures:

• Dimensions of structures monitored.

• Designed and permitted animal capacity.

• Type, age, number, and weight of animals contained in the confinement structure over the duration of the monitoring period.

• Manure management system (e.g., pull-plug pit, scrape).

• Dates of production and manure management activities over the duration of the monitoring period.

• Ventilation method (i.e., natural or mechanical).

• Calculations and assumptions used to estimate the ventilation rate of the monitored confinement structure.

• Calibration procedures for instruments (e.g., flow meters, fan relays) used to collect data for calculating ventilation rate of the monitored confinement structure.

• Data on air temperature and relative humidity within the structure for each day that the study was conducted.

• Organics content of process inputs and outputs (e.g., feed, water, bedding, eggs, milk).

• Organics content of manure excreted.

• Description of any control device or work practice used in the monitored structure to reduce emissions.

4. Manure storage and treatment processes:

• Type, age, number, and weight of animals contributing manure to the storage and treatment process over the monitoring period.

• Dimensions of storage/treatment unit monitored (e.g., storage pile, tank, lagoon).

• Depth of settled solids in storage/treatment unit.

• Temperature, pH, and reduction/oxidation potential of manure contained in the storage/treatment unit.

• Moisture, total solids, volatile solids, organic content, total Kjeldahl nitrogen, and ammoniacal nitrogen content and pH of manure entering storage and treatment process over the monitoring period.

With regard to the format of the information, we request that emissions, process, and production data be submitted to the EPA in Microsoft® Excel® spreadsheet or Access® database format. In cases where the emissions, process, and production data correspond to time increments shorter than 1 hour, please provide sufficient information and supporting documentation with the data to allow the EPA to develop emission estimates on a per-hour and per-day basis. For all formats, please clearly label the units of measure of emissions, process, and production data submitted.

Dated: September 18, 2019.
Anne L. Idsal,
Acting Assistant Administrator.

[FR Doc. 2019-20927 Filed 9-30-19; 8:45 am]

BILLING CODE 6560-50-P